DEPARTMENT OF EDUCATION

Applications for New Awards; Parent Information and Training Program

AGENCY: Office of Special Education and Rehabilitative Services, Department of Education

ACTION: Notice.

Overview Information

Rehabilitation Services Administration—Parent Information and Training Program.

Notice inviting applications for new awards for fiscal year (FY) 2014.

Catalog of Federal Domestic Assistance (CFDA) Number: 84.235F.

DATES:

Applications Available: July 10, 2014.

Date of Pre-Application Webinar: July 15, 2014.

Deadline for Transmittal of Applications: August 11, 2014.

Full Text of Announcement

I. Funding Opportunity Description

Purpose of Program: The Parent Information and Training Program is designed to support projects that provide training and information to enable individuals with disabilities, and the parents, family members, guardians, advocates, or other authorized representatives of the individuals (hereafter collectively referred to as “individuals with disabilities and their families”), to participate more effectively with professionals in meeting the vocational, independent living, and rehabilitation needs of individuals with disabilities. These grants are designed to meet the unique training and information needs of those individuals who live in the area to be served, particularly those who are members of populations that have been unserved or underserved by programs under the Rehabilitation Act of 1973, as amended (Rehabilitation Act).

Priority: In accordance with 34 CFR 75.105(b)(2)(v), this priority is from allowable activities specified in the statute (see section 303(c)(2) of the Rehabilitation Act (29 U.S.C. 773(c)(2))).

Absolute Priority: For FY 2014 and any subsequent year in which we make awards from the list of unfunded applicants from this competition, this priority is an absolute priority. Under 34 CFR 75.105(c)(3) we consider only applications that meet this priority.

Background: The purpose of this competition is to fund six Parent Training and Information (PTI) centers to meet the information and training needs of individuals with disabilities and their families, so that such individuals with disabilities can achieve their employment and independent living goals. The PTI centers will be distributed geographically to the extent possible throughout the country. They will be designed to meet the unique training and information needs of individuals with disabilities and their families who live in the area to be served, particularly those who are members of populations that have been unserved or underserved by other Rehabilitation Act programs. The centers will coordinate and work closely with the PTI centers established pursuant to section 671 of the Individuals with Disabilities Education Act (IDEA) and with centers for independent living.

The Department has funded PTI centers under IDEA for over 35 years. Research and experience has demonstrated that the education of youth with disabilities can be made more effective by strengthening parents' ability to participate fully in their children's education at school and at home. For example, research has found that trainings and programs, including those provided by the Office of Special Education Programs (OSEP), provide parents with much-needed information about how to monitor their children's progress, be productive members of the Individualized Education Program (IEP) team, and support their children's education at school (Newman, 2005).

In addition to the PTI centers funded under IDEA, the Department has funded PTI centers under the Rehabilitation Act since 1993. For individuals with disabilities and their families, particularly for youth of transition age, the need for information about transition, vocational rehabilitation (VR), independent living, and other adult services is very critical. The current Federal approach to assisting students with disabilities in transitioning to postsecondary education or the workforce necessitates that students and their parents navigate multiple programs and service systems in order to piece together the supports these students need to achieve maximum independence in adulthood. Under this complex structure, information dissemination and service coordination are essential (GAO, 2012).

Also, although families may be familiar with the supports provided while a youth with disabilities is in secondary school, the options available for postsecondary education and training, including how to obtain financial aid for such options, can often be daunting. Without receiving accurate and timely information about available services, students may miss opportunities to access needed services that could mean the difference between achieving an optimal level of self-sufficiency and relying on public assistance to meet their basic needs (GAO, 2012). Finally, although many youth with disabilities receive work experiences while in secondary school, additional exploration and on-the-job training experiences provided through a VR services program can introduce them to career possibilities not previously considered.

It is noteworthy that 80 percent of the individuals with disabilities and family members surveyed by the PTI centers funded from FY 2007 to FY 2011 reported that they have an increased knowledge of VR services based on the training they received; and that 89 percent of individuals with disabilities who received training believed that the training was highly relevant to their needs.

For over the past 20 years, PTI centers have provided information and training to thousands of individuals with disabilities and their families to help them better understand the varied eligibility requirements for, and the complex array of services provided by, programs that serve adults with disabilities. Having accurate and user-friendly information available helps to ensure that individuals with disabilities receive the services that will help them achieve their employment and independent living goals.

References

Newman, L. (2005). Family Involvement in the Educational Development of Youth with Disabilities. National Longitudinal Transition Study 2. 28 March 2005. Retrieved from: www.nlts2.org/reports/2005_03/nlts2_report_2005_03_complete.pdf.

United States Government Accountability Office (GAO). (2012). Report to the Ranking Member, Committee on Education and the Workforce, House of Representatives. Students with Disabilities, Better Federal Coordination Could Lesson Challenges in the Transition from High School. July 2012. Retrieved from: www.gao.gov/assets/600/592329.pdf.

This priority is:

Parent Information and Training Program.

Under this priority grants are awarded for the establishment or continuation of projects that provide information and training to assist individuals with disabilities and their parents, family members, guardians, advocates, or other authorized representatives (hereafter collectively referred to as “individuals with disabilities and their families”) to participate more effectively with professionals in meeting the vocational, independent living, and rehabilitation needs of individuals with disabilities. To be considered for funding under this priority, an applicant must meet the application, programmatic, and administrative requirements of this priority. The applicant must address the following requirements and explain how it will assist individuals with disabilities, including youth of transition age, and their families to:

(1) Better understand vocational rehabilitation (VR) and independent living programs and services. To meet this requirement, the applicant may describe—

(i) How it will assess the need for information and training materials to inform individuals with disabilities and their families about VR and independent living services;

(ii) The materials and training that will be developed to explain the VR process and how VR is designed to lead to high-quality competitive employment outcomes in the integrated labor market for individuals with disabilities;

(iii) A plan for disseminating the materials developed; and

(iv) A plan for evaluating the information and training materials disseminated.

(2) Provide follow-up support for transition services and employment programs. To meet this requirement, the applicant may describe—

(i) A plan for developing the necessary follow-up activities so that individuals with disabilities experience a smooth transition from secondary school activities to employment and other post school activities;

(ii) How it will develop and disseminate training materials on transition services and employment programs;

(iii) A plan for evaluating the information and training materials disseminated on transition services and employment programs; and

(iv) How it will develop collaborative arrangements with VR service providers and employers in the area to be served that will facilitate the provision of transition services and employment programs to support individuals with disabilities and their families.

(3) Communicate more effectively with transition and rehabilitation personnel and other relevant professionals. To meet this requirement, the applicant may describe—

(i) How training will be provided to individuals with disabilities and their families to help them understand the language and the frame of reference that rehabilitation professionals use in their work so that such individuals and their families will be capable of communicating effectively with such professionals;

(ii) How the needs of individuals with disabilities and their families who are from culturally diverse backgrounds or who have varying communication needs will be addressed; and

(iii) How the effectiveness of the training will be evaluated.

(4) Provide support in the development of individualized plans for employment (IPEs). To meet this requirement the applicant may describe—

(i) How it will provide training to individuals with disabilities and their families to help them develop IEPs with a focus on transition services needed in order to achieve high-quality employment and independence and that will later be coordinated with the IPEs developed for the individuals; and

(ii) How it will provide training to individuals with disabilities and their families to help them develop comprehensive IPEs leading to employment goals consistent with the individuals' strengths, abilities, and informed choice.

(5) Provide support and expertise in obtaining information about rehabilitation and independent living programs, services, and resources that are appropriate. To meet this requirement the applicant may describe—

(i) How it will develop and disseminate materials to educate individuals with disabilities and their families about the array of transition, rehabilitation, and independent living services and programs available in the area to be served;

(ii) How it will provide information to individuals with disabilities from diverse ethnic, cultural, and linguistic backgrounds and how it will provide information in accessible formats (e.g., languages other than English, or in braille, or large print); and

(iii) How it will develop relationships with rehabilitation and independent living service providers in the area to be served so that the information the PTI provides is current and meaningful.

(6) Understand the provisions of the Rehabilitation Act, particularly provisions relating to employment, supported employment, and independent living. To meet this requirement the applicant may describe—

(i) How it would train individuals with disabilities and their families about how to access, and what to expect from, VR and independent living programs available under the Rehabilitation Act and how such services and programs can help individuals with disabilities achieve their goals in postsecondary education, independent living, and high-quality competitive employment in the integrated labor market, including supported employment; and

(ii) How it would provide information to individuals with disabilities and their families on the rights such individuals have to access these programs and their rights to due process if they are not satisfied with the services they receive.

Program Authority: 29 U.S.C. 773(c).

Applicable Regulations: (a) The Education Department General Administrative Regulations (EDGAR) in 34 CFR parts 74, 75, 77, 79, 80, 81, 82, 84, 86, 97, and 99. (b) The Education Department suspension and debarment regulations in 2 CFR part 3485.

Note: The regulations in 34 CFR part 79 apply to all applicants except federally recognized Indian tribes.

Note: The regulations in 34 CFR part 86 apply to institutions of higher education only.

II. Award Information

Type of Award: Discretionary grants.

Estimated Available Funds: $785,600.

Contingent upon the availability of funds and the quality of applications, we may make additional awards in FY 2015 from the list of unfunded applicants from this competition.

Estimated Range of Awards: $125,000-$130,933.

Estimated Average Size of Awards: $130,000.

Maximum Award: We will reject any application that proposes a budget exceeding $130,933 for a single budget period of 12 months. The Assistant Secretary for Special Education and Rehabilitative Services may change the maximum amount through a notice published in the Federal Register.

Estimated Number of Awards: 6.

Note: The Department is not bound by any estimates in this notice.

Project Period: Up to 60 months.

III. Eligibility Information

1. Eligible Applicants: Private nonprofit organizations that meet the requirements in section 303(c)(4) of the Rehabilitation Act.

A. An applicant must demonstrate the capacity and expertise to coordinate training and information activities with centers for independent living. In addition an applicant may wish to demonstrate the capacity and expertise to coordinate training and information activities with schools, VR agencies, and other relevant service providers.

B. An applicant must demonstrate the capacity and expertise to coordinate and work closely with parent information and training centers established pursuant to section 671 of IDEA.

C. An applicant must demonstrate the capacity and expertise to effectively conduct the training and information activities authorized in section 303 of the Rehabilitation Act.

D. In order to receive a grant under this program, an entity must:

(1)(A) Be governed by a board of directors that includes professionals in the field of VR and on which a majority of the members are individuals with disabilities or the parents, family members, guardians, advocates, or authorized representatives of the individuals. In addition, an applicant may include representatives from special education and other public and private agencies on the board, as appropriate; or

(B) Alternatively, have a membership that represents the interests of individuals with disabilities and must establish a special governing committee that includes professionals in the field of VR and on which a majority of the members are individuals with disabilities or the parents, family members, guardians, advocates, or authorized representatives of the individuals. In addition, an applicant may include representatives from special education and other public and private agencies on the governing committee, as appropriate; and

(2) Serve individuals with a full range of disabilities, and the parents, family members, guardians, advocates, or authorized representatives of the individuals.

2. Cost Sharing or Matching: This program does not require cost sharing or matching.

IV. Application and Submission Information

1. Address to Request Application Package: You can obtain an application package via the Internet, from the Education Publications Center (ED Pubs), or from the program office. To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.235F.

To obtain a copy from the program office, contact Tara Jordan, U.S. Department of Education, 400 Maryland Avenue SW., room 5040, Potomac Center Plaza (PCP), Washington, DC 20202-2800. Telephone: (202) 245-7341 or by email: tara.jordan@ed.gov.

If you use a TDD or a TTY, call the Federal Relay Service (FRS), toll free, at 1-800-877-8339.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 35 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract.

All other materials submitted (e.g., resumes, bibliography, or letters of support) cannot exceed 30 additional pages.

We will reject your application if you exceed the page limits.

3. Submission Dates and Times:

Applications Available: July 10, 2014.

Date of Pre-Application Webinar: Interested parties are invited to participate in a pre-application webinar. The pre-application webinar with staff from the Department will be held on July 15, 2014. The webinar will be recorded. For further information about the pre-application webinar, contact the person listed under FOR FURTHER INFORMATION CONTACT in section VII of this notice.

Deadline for Transmittal of Applications: August 11, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive the intergovernmental review in order to make an award by the end of FY 2014.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this competition must be submitted electronically unless you qualify for an exception to this requirement in accordance with the instructions in this section.

a. Electronic Submission of Applications.

Applications for grants under the Demonstration and Training: Parent Information and Training Program, CFDA number 84.235F, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Parent Information and Training Program competition at www.Grants.gov. You must search for the downloadable application package for this competition by the CFDA number. Do not include the CFDA number's alpha suffix in your search (e.g., search for 84.235, not 84.235F).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Tara Jordan, U.S. Department of Education, 400 Maryland Avenue SW., Room 5040, PCP, Washington, DC 20202-2800. FAX: (202) 245-7591.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.235F), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.235F), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and 34 CFR 373.10 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Government Performance and Results Act of 1993 (GPRA) directs Federal departments and agencies to improve the effectiveness of programs by engaging in strategic planning, setting outcome-related goals for programs, and measuring program results against those goals. The required annual report must include information on two measures: (a) The percentage of individuals with disabilities and their families receiving PTI services who report enhanced knowledge and understanding of VR services; and (b) the percentage of all products and services developed to improve VR service utilization deemed to be useful by individuals with disabilities and their families receiving PTI services. The data needed to support these measures will be collected by grantees via survey, assessed, and reported in the aggregate to RSA. Grantees will negotiate targets with RSA after the first year, which will be used to establish a baseline.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Tara Jordan, U.S. Department of Education, 400 Maryland Avenue SW., Room 5040, PCP, Washington, DC 20202-2800. Telephone: (202) 245-7341 or by email: tara.jordan@ed.gov.

If you use a TDD or TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 3, 2014.
Michael K. Yudin,
Acting Assistant Secretary for Special Education and Rehabilitative Services.

[FR Doc. 2014-16124 Filed 7-9-14; 8:45 am]

BILLING CODE 4000-01-P